DEPARTMENT OF HEALTH AND HUMAN SERVICES

Substance Abuse and Mental Health Services Administration

Fiscal Year (FY) 2014 Funding Opportunity

AGENCY: Substance Abuse and Mental Health Services Administration, HHS.

ACTION: Notice of intent to award a single source grant to the Education Development Center, Inc., Waltham, MA.

SUMMARY: This notice is to inform the public that the Substance Abuse and Mental Health Services Administration (SAMHSA) intends to award up to $1,182,918 (total costs) for one year to the Education Development Center, Inc., Waltham, MA, as a program supplement to the Suicide Prevention Resource Center. The purpose of this program supplement is to support high-impact objectives of the National Strategy for Suicide Prevention (NSSP), provide technical assistance for NSSP implementation, and develop an implementation plan for preventing suicide among men in mid-life, with the overall goal of reducing suicides and suicidal behaviors in the nation. This supplement represents an enhancement of the SPRC's capacity to carry out its primary mission of advancing implementation of the NSSP.

Funding Opportunity Title: SM-14-022.

Catalog of Federal Domestic Assistance (CFDA) Number: 93.243.

Authority: Sections 520A and 520C of the Public Health Service Act, as amended, and is financed by SAMHSA's Budget Authority and the 2014 Prevention and Public Health Funds (PPHF-2014).

Justification: Eligibility for this funding opportunity is limited to the Education Development Center, Inc., Waltham, MA. Education Development Center, Inc. is the current grantee for SAMHSA's Suicide Prevention Resource Center and acts as the Executive Secretariat for the National Action Alliance for Suicide Prevention, providing the infrastructure, administrative support, and guidance to its leadership, Executive Committee, and task forces. Education Development Center, Inc. has the infrastructure already in place to immediately begin to implement the activities under this supplemental funding announcement. This is the most efficient and effective use of grant funds for advancing the impact of the NSSP in reducing suicidal behavior and preventing suicide in this nation.

FOR FURTHER INFORMATION CONTACT: Cathy Friedman, Substance Abuse and Mental Health Services Administration, 1 Choke Cherry Road, Room 8-1097, Rockville, MD 20857; telephone: (240) 276-2316; email: cathy.friedman@samhsa.hhs.gov.

Cathy J. Friedman,
SAMHSA Public Health Analyst.

[FR Doc. 2014-15041 Filed 6-26-14; 8:45 am]

BILLING CODE 4162-20-P